DEPARTMENT OF TRANSPORTATION

Federal Aviation Administration

Delegation of Authority

AGENCY: Federal Aviation Administration (FAA), DOT.

ACTION: Notice of delegation of authority.

SUMMARY: The FAA is giving notice of a specific delegation of authority from the FAA Administrator to the Associate Chief Counsel/Director, Office of Dispute Resolution for Acquisition (hereinafter the “ODRA Director”), to supplement and expand the authority previously delegated on July 29, 1998 and supersede the delegation issued to the Associate Chief Counsel/Director of the ODRA on March 27, 2000, in order to permit the ODRA Director to issue final FAA Agency orders on behalf of the Administrator in certain bid protests and contract disputes filed with the FAA Office of Dispute Resolution for Acquisition. The delegation was set forth in a memorandum signed by the Administrator dated March 10, 2004. The FAA is publishing the text of the delegation, so that it is available to interested parties.

FOR FURTHER INFORMATION CONTACT: Marie A. Collins, Staff Attorney and Dispute Resolution Officer for the Office of Dispute Resolution for Acquisition (AGC-70), Federal Aviation Administration, 800 Independence Street, SW., Room 323, Washington, DC 20591; telephone (202) 267-3290; facsimile (202) 267-3720.

SUPPLEMENTARY INFORMATION: Under the Department of Transportation and Related Agencies Appropriations Act of 1996, Pub. L. No. 104-50, 109 Stat. 436 (1995) (“Appropriations Act”), Congress directed the FAA to develop an acquisition system that addresses the mission and unique needs of the Agency and at a minimum, provides for more timely and cost-effective acquisition of equipment and materials. In the Appropriations Act, Congress expressly directed the FAA to create the new acquisition system without reference to existing procurement statutes and regulations. The result was the development of the FAA's Acquisition Management System (AMS) and the establishment of the Office of Dispute Resolution for Acquisition (ODRA). Subsequently, Congress enacted the Vision 100—Century of Aviation Reauthorization Act, Pub. L. No. 108-176, 117 Stat. 2490 (2003), which specifies the ODRA as the exclusive forum for the resolution and adjudication of bid protests and contract disputes arising from AMS acquisitions and contracts. Under these statutes, the ODRA is mandated to resolve bid protests and contract disputes in a timely and efficient manner, using consensual alternative dispute resolution techniques to the maximum extent practicable. A final procedural rule that took effect on June 28, 1999 for ODRA bid protests and contract disputes was published in the Federal Register on June 18, 1999 (64 FR 34926). Technical corrections to the rule were published in the Federal Register on August 31, 1999 (64 FR 47361). The full text of the March 10, 2004 delegation from the Administrator to the ODRA Director provides the ODRA Director with additional authority to act on behalf of the Administrator with respect to ODRA bid protests and contract disputes as follows:

In order to render more efficient the FAA acquisition dispute resolution process, pursuant to 49 U.S.C. § 106(f)(2), 49 U.S.C. 40101, et seq., and 46101, et seq., and 14 CFR part 17, I hereby delegate to the Associate Chief Counsel/Director, Office of Dispute Resolution for Acquisition (“ODRA”) authority to execute and issue on behalf of the Administrator, orders and final decisions for the FAA in all matters within the ODRA's jurisdiction, provided that such matters involve either: (1) A bid protest concerning an acquisition having a value or potential value of not more than five million dollars ($5,000,000.00); or (2) a contract dispute involving a total amount to be adjudicated, exclusive of interest, legal fees or costs, of not more than five million dollars ($5,000,000.00). The Associate Chief Counsel/ODRA Director further is authorized to execute and issue orders and final decisions on behalf of the Administrator for any applications made pursuant to the Equal Access to Justice Act for matters within the ODRA's jurisdiction.

The foregoing authority may not be re-delegated.

This delegation supplements and expands the authority previously delegated on July 29, 1998 and supersedes the delegation issued to the Associate Chief Counsel/Director of the ODRA on March 27, 2000. This delegation does not preclude the Associate Chief Counsel/Director of the ODRA from requesting, in any matter before the ODRA, that the order setting forth the final decision of the FAA be executed by the Administrator.

Issued in Washington, DC, on March 10, 2004.
Andrew B. Steinberg,
Chief Counsel.

[FR Doc. 04-7490 Filed 4-1-04; 8:45 am]

BILLING CODE 4910-13-M